OFFICE OF NAVAJO AND HOPI INDIAN RELOCATION

Performance Review Board and Membership

AGENCY: Office of Navajo and Hopi Indian Relocation.

ACTION: Notice.

SUMMARY: Notice is hereby given of the appointments of members to a performance review board for the Office of Navajo and Hopi Indian Relocation.

FOR FURTHER INFORMATION CONTACT: Michael J. McAlister, Deputy Director, Office of Navajo and Hopi Indian Relocation, 201 E. Birch Ave., Room 11, Flagstaff, AZ 86001, Telephone (928) 779-2721.

SUPPLEMENTARY INFORMATION: Section 4314(c) of Title 5, U.S.C., requires each agency to establish, in accordance with regulations, one or more Senior Executive Service (SES) performance review boards. The function of the boards is to review and evaluate the initial appraisal of senior executives' performance and make recommendations to the appointing authority relative to the performance of these executives. Because of its small size, the Office of Navajo and Hopi Indian Relocation has appointed SES appointees from other Federal agencies to serve on its performance review board. The members of the performance review board for the Office of Navajo and Hopi Indian Relocation are:

Ronald Linz, Deputy Director, International Broadcasting Bureau.

John Farrell, Executive Director, U.S. Arctic Research Commission.

Ernest Garcia, Deputy Director, Selective Service System.

Dated: September 24, 2007.
Michael J. McAlister,
Deputy Director, Office of Navajo and Hopi Indian Relocation.

[FR Doc. 07-4802 Filed 9-28-07; 8:45 am]

BILLING CODE 7560-01-M